DEPARTMENT OF ENERGY

10 CFR Part 431

[EERE-2019-BT-STD-0042]

RIN 1904-AE59

Energy Conservation Program: Energy Conservation Standards for Air-Cooled Commercial Package Air Conditioning and Heating Equipment and Commercial Warm Air Furnaces

AGENCY: Office of Energy Efficiency and Renewable Energy, Department of Energy.

ACTION: Request for information; reopening of the public comment period.

SUMMARY: On May 12, 2020, the U.S. Department of Energy (DOE) published a request for information (RFI) pertaining to the energy conservation standards for air-cooled commercial package air conditioning and heating equipment (ACUACs and ACUHPs) and commercial warm air furnaces (CWAFs). The RFI provided an opportunity for submission of written comments, data, and information to the Department by June 11, 2020. Prior to the end of the comment period for the RFI, DOE received a request from the Air-Conditioning, Heating and Refrigeration Institute (AHRI), as well as from the American Public Gas Association (APGA), seeking additional time to consider the applicability and impact of an updated energy conservation standard for this equipment. In light of these requests, DOE is reopening the comment period for the subject RFI for an additional 14 days.

DATES: The comment period for the subject RFI, published in the Federal Register on May 12, 2020, which closed on June 11, 2020, is hereby reopened and extended. Accordingly, DOE will accept written comments, data, and information in response to the RFI submitted no later than July 1, 2020.

ADDRESSES: Interested persons are encouraged to submit comments using the Federal eRulemaking Portal at http://www.regulations.gov. Follow the instructions for submitting comments. Alternatively, interested persons may submit comments, identified by docket number EERE-2019-BT-STD-0042 and/or 1904-AE59, by any of the following methods:

1. Federal eRulemaking Portal: http://www.regulations.gov. Follow the instructions for submitting comments.

2. Email: PkgHVACFurnace2019STD0042@ee.doe.gov. Include the docket number EERE-2019-BT-STD-0042 and/or RIN 1904-AE59 in the subject line of the message.

3. Postal Mail: Appliance and Equipment Standards Program, U.S. Department of Energy, Building Technologies Office, Mailstop EE-5B, 1000 Independence Avenue SW, Washington, DC 20585-0121. If possible, please submit all items on a compact disc (CD), in which case it is not necessary to include printed copies.

4. Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

No telefacsimilies (faxes) will be accepted.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2019-BT-STD-0042. The docket web page contains instructions on how to access all documents, including public comments, in the docket.

FOR FURTHER INFORMATION CONTACT:

Dr. Stephanie Johnson and Ms. Catherine Rivest, U.S. Department of Energy, Office of Energy Efficiency and Renewable Energy, Building Technologies Office, EE-5B, 1000 Independence Avenue SW, Washington, DC 20585-0121. Telephone: (202) 586-7335. Email: ApplianceStandardsQuestions@ee.doe.gov.

Mr. Eric Stas, U.S. Department of Energy, Office of the General Counsel, GC-33, 1000 Independence Avenue SW, Washington, DC 20585-0121. Telephone: (202) 586-5827. Email: Eric.Stas@hq.doe.gov.

For further information on how to submit a comment, or review other public comments and the docket, contact the Appliance and Equipment Standards Program staff at (202) 586-6636 or by email: ApplianceStandardsQuestions@ee.doe.gov.

SUPPLEMENTARY INFORMATION: DOE published a Request for Information (RFI) pertaining to the energy conservation standards for ACUACs, ACHPs, and CWAFs in the Federal Register on May 12, 2020. 85 FR 27941. The RFI initiated a data collection process and seeks input from the public to assist DOE in determining whether amended standards for ACUACs, ACUHPs, and CWAFs, would result in significant additional energy savings and would be technologically feasible and economically justified. In that RFI, DOE requested submission of written comment, data, and information by June 11, 2020.

On May 15, 2020, AHRI, an interested party in the matter, requested a 30-day extension of the public comment period for the RFI that DOE previously published in the Federal Register on May 12, 2020.¹ More specifically, AHRI sought additional time to consider the many technical issues raised in the RFI, noting that many of its member manufactures have closed facilities and furloughed staff in response to the COVID-19 crisis.

¹ Available at https://www.regulations.gov/document?D=EERE-2019-BT-STD-0042-0003.

On May 19, 2020, APGA, also requested a 30-day extension of the public comment period for the RFI that DOE previously published in the Federal Register on May 12, 2020, for similar reasons to those expressed in the AHRI request.²

² Available at https://www.regulations.gov/document?D=EERE-2019-BT-STD-0042-0004.

On May 27, 2020, AHRI reiterated their request for a comment extension for the RFI. In its request for extension, AHRI noted that DOE has released numerous requests for information since April 12, 2020, which include requests for AHRI and its members to provide data and information to DOE. AHRI's extension request also reiterated the challenges in complying with such requests associated with COVID-19-related company furloughs.³

³ Available at https://www.regulations.gov/document?D=EERE-2019-BT-STD-0042-0005.

After carefully considering these requests, DOE has determined that reopening the comment period for an additional 14 days to allow additional time for interested parties to submit comments is sufficient. Therefore, DOE is reopening the comment period for the RFI pertaining to the energy conservation standards for ACUACs, ACHPs, and CWAFs, and will accept comments received on and before July 1, 2020, in order to provide interested parties additional time to prepare and submit comments. Accordingly, DOE will consider any comments received by this date to be timely submitted.

Signing Authority

This document of the Department of Energy was signed on June 9, 2020, by Alexander N. Fitzsimmons, Deputy Assistant Secretary for Energy Efficiency, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 11, 2020.
Treena V. Garrett,
Federal Register Liaison Officer, U.S. Department of Energy.

[FR Doc. 2020-12934 Filed 6-16-20; 8:45 am]

BILLING CODE 6450-01-P